CONSUMER PRODUCT SAFETY COMMISSION

Petition Requesting Standard for Hunting Tree Stands and Ban of Waist Belt Restraints Used With Hunting Tree Stands

AGENCY: Consumer Product Safety Commission.

ACTION: Notice.

SUMMARY: The Commission has received a petition (CP 02-3) requesting that the Commission issue a consumer product safety standard for hunting tree stands and ban waist belt restraints used with the stands. The Commission solicits written comments concerning the petition.

DATES: The Office of the Secretary must receive comments on the petition by July 1, 2002.

ADDRESSES: Comments, preferably in five copies, on the petition should be mailed to the Office of the Secretary, Consumer Product Safety Commission, Washington, DC 20207, telephone (301) 504-0800, or delivered to the Office of the Secretary, Room 501, 4330 East-West Highway, Bethesda, Maryland 20814. Comments may also be filed by telefacsimile to (301) 504-0127 or by email to cpsc-os@cpsc.gov. Comments should be captioned “Petition CP 02-3, Petition on Hunting Tree Stands.” A copy of the petition is available for inspection at the Commission's Public Reading Room, Room 419, 4330 East-West Highway, Bethesda, Maryland, or from the library/electronic reading room section of the Commission's website at www.cpsc.gov.

FOR FURTHER INFORMATION CONTACT: Rockelle Hammond, Office of the Secretary, Consumer Product Safety Commission, Washington, DC 20207; telephone (301) 504-0800, ext. 1232.

SUPPLEMENTARY INFORMATION: The Commission has received correspondence from Carol Pollack-Nelson, Ph.D., requesting that the Commission issue regulations that would establish a mandatory standard for hunting tree stands to address the risk of falling, and ban waist belt restraints used with the tree stands. The Commission is docketing this request as a petition under the Consumer Product Safety Act. 15 U.S.C. §§ 2056 and 2058. The petitioner states that incident reports and medical literature show that serious injuries and death are associated with hunting tree stands and waist belt restraints. She states that “regulation is needed to ensure that stands are designed with optimal materials and instructions in order to reduce the likelihood of a fall.” She also states that, although waist belts are intended to prevent injury, they have been involved in four fatalities where hunters were asphyxiated by them.

Interested parties may obtain a copy of the petition by writing or calling the Office of the Secretary, Consumer Product Safety Commission, Washington, DC 20207; telephone (301) 504-0800. Copies of the petition are also available for inspection from 8:30 a.m. to 5 p.m., Monday through Friday, in the Commission's Public Reading Room, Room 419, 4330 East-West Highway, Bethesda, Maryland, or from the library/electronic reading room section of the Commission's website at www.cpsc.gov.

Dated: April 25, 2002.
Todd A. Stevenson,
Secretary, Consumer Product Safety Commission.

[FR Doc. 02-10784 Filed 4-30-02; 8:45 am]

BILLING CODE 6355-01-P